DEPARTMENT OF AGRICULTURE

Food Safety and Inspection Service

[Docket No. FSIS-2014-0044]

National Advisory Committee on Meat and Poultry Inspection

AGENCY: Food Safety and Inspection Service, USDA.

ACTION: Notice of Public Meeting.

SUMMARY: The Food Safety and Inspection Service (FSIS) is announcing that the National Advisory Committee on Meat and Poultry Inspection (NACMPI) will hold a public meeting on January 13 and 14, 2015, to review and discuss FSIS's identification and management of chemical hazards within the National Residue Program (NRP). The NRP is an interagency program administered by FSIS that is designed to identify, rank, and test for chemical contaminants in meat, poultry, and egg products. FSIS is seeking input on whether or not it should change the way it categorizes chemical hazards and allocates resources. NACMPI will also review and discuss the Cost Calculation Model that FSIS developed with the Economic Research Service (ERS), which provides detailed data about the costs of major foodborne illnesses in the United States.

DATES: The meeting is scheduled for January 13-14, 2015 from 9:00 a.m. to 5:00 p.m. Eastern Time. NACMPI will meet from 8:00 a.m. to 9:00 a.m. on January 13th for administrative purposes; this portion of the meeting is not open to the public.

ADDRESSES: The meeting will be held in the Auditorium at the Patriot Plaza III building, 355 E. Street SW., Washington, DC 20024. The auditorium is located on the first floor. Please note that due to increased security measures at the Patriot Plaza III, all persons wishing to attend are strongly encouraged to register in advance.

FOR FURTHER INFORMATION CONTACT: Natasha Williams, Program Specialist, Designated Federal Officer, via Email: Natasha.Williams@fsis.usda.gov; Telephone: 202-690-6531; or Fax: (202) 690-6519, regarding specific questions about the committee or this meeting. General information about the committee can also be found at: http://www.fsis.usda.gov/wps/portal/fsis/topics/regulations/advisory-committees/nacmpi.

SUPPLEMENTARY INFORMATION:

Background

NACMPI provides advice and recommendations to the Secretary on meat and poultry inspection programs, pursuant to sections 7(c), 24, 301(a)(3), and 301(c) of the Federal Meat Inspection Act, 21 U.S.C. 607(c), 624, 645, 661(a)(3), and 661(c), and to sections 5(a)(3), 5(c), 8(b), and 11(e) of the Poultry Products Inspection Act, 21 U.S.C. 454(a)(3), 454(c), 457(b), and 460(e). A copy of the current charter and other information about NACMPI can be found at http://www.fsis.usda.gov/wps/portal/fsis/topics/regulations/advisory-committees/nacmpi.

The U.S. Department of Agriculture's Deputy Under Secretary for Food Safety is the chairperson of NACMPI. Membership of NACMPI is drawn from distinguished representatives of consumer groups; producers; processors; and marketers from the meat, poultry and egg product industries; State and local government officials; and academia. The current members of NACMPI are: Dr. Michael Crupain, Consumer Product Safety and Sustainability; Mr. George Wilson, STOP Foodborne Illness; Dr. Tanya Roberts, Center for Foodborne Illness Research and Prevention; Mr. Kurt Brandt, United Food and Commercial Workers International Union; Dr. Dustin Oedekoven, South Dakota Animal Industry Board; Dr. Krzysztof Mazurczak, Illinois Department of Agriculture; Dr. Monique Wiggins, Georgia Department of Agriculture; Mr. Michael Frances Link Jr., Ohio Department of Agriculture; Dr. Manpreet Singh, Purdue University; Dr. Randall K. Phebus, Kansas State University; Dr. Patricia Curtis, Auburn University; Mr. Brian Sapp, White Oak Pastures, Inc.; Ms. Sherri Jenkins, JBS, USA, LLC; Dr. Betsy Booren, American Meat Institute; Dr. Alice Johnson, Butterball, LLC; Ms. Sherika Harvey, Mississippi Department of Agriculture; Dr. Carol L. Lorenzen, University of Missouri; Dr. Michael L. Rybolt, Hillshire Brands Company; Dr. John A. Marcy, University of Arkansas; and Mr. Christopher A. Waldrop, Consumer Federation of America.

On January 13 and 14, 2015, NACMPI will review and discuss FSIS's identification and management of chemical hazards within the NRP and the FSIS and ERS Cost Calculation Model.

FSIS has administered the NRP by collecting meat, poultry, and egg product samples and analyzing the samples for specific chemical compounds at FSIS laboratories since 1967 for meat and poultry, and 1995 for egg products. Chemical compounds tested in the program include approved and unapproved veterinary drugs, pesticides, and environmental compounds.

The NRP is designed to: (1) Provide a structured process for identifying and evaluating chemical compounds of concern in food animals; (2) analyze chemical compounds of concern; (3) collect, analyze, and report results; and, (4) identify the need for regulatory follow-up subsequent to the identification of violative levels of chemical residues.

The NRP consists of three separate, but interrelated, chemical residue testing programs: Scheduled sampling, inspector-generated sampling, and import sampling. This basic structure has been in existence since 1967. These testing programs provide data for FSIS to detect chemical residues of concern and have been modified over the years to respond to emerging and re-emerging chemical residue concerns and improved testing methodologies.

The Cost Calculation Model provides detailed data about the costs of major foodborne illnesses in the United States, updating and extending previous ERS research. It is available on ERS's Web site at http://www.ers.usda.gov/data-products/cost-estimates-of-foodborne-illnesses/documentation.aspx#resources. It includes:

1. Detailed identification of specific disease outcomes for foodborne infections caused by 15 major pathogens in the United States;

2. Associated outpatient and inpatient expenditures on medical care;

3. Associated lost wages; and

4. Estimates of individuals' willingness to pay to reduce mortality resulting from these foodborne illnesses acquired in the United States.

Disease outcomes include both acute illness and chronic disease that sometimes follow these acute illnesses. These 15 pathogens account for over 95 percent of the illnesses and deaths from foodborne illnesses acquired in the United States for which the U.S. Centers for Disease Control and Prevention (CDC) can identify a pathogen cause. These estimates build on CDC estimates of the incidence of foodborne disease; peer-reviewed synthesis of data on medical costs, and economic, medical and epidemiological literature; and publicly available data on wages.

The Cost Calculation Model provides FSIS and other Federal agencies with a set of consistent, peer-reviewed estimates of the costs of foodborne illness that can be used in analyzing the impact of Federal regulation. It also provides other stakeholders and the general public with a means of understanding the relative impact of different foodborne infections in the United States. Cost estimates of foodborne illnesses have been used in the past to help inform food-safety policy discussions.

The two issues described above will be presented to the full Committee. The Committee will then divide into two subcommittees to discuss the issues. Each subcommittee will provide a report of their comments and recommendations to the full Committee before the meeting concludes on January 14, 2015.

Register for the Meeting: The public is asked to pre-register for the meeting. Your pre-registration must state: The name of each person in your group; organization or interest represented; the number of people planning to give oral comments, if any; and whether anyone in your group requires special accommodations. Submit registrations to http://www.fsis.usda.gov/wps/portal/fsis/topics/regulations/advisory-committees/nacmpi/nacmpi-meetings/nacmpi-registration. FSIS will also accept walk-in registrations. Members of the public requesting to give oral comment to the Committee must sign in at the registration desk.

PUBLIC COMMENTS: Written public comments may be mailed to USDA/FSIS, 1400 Independence Ave SW., Mail Stop 3778, Washington, DC 20250; submitted via fax (202) 690-6519; or by Email at: NACMPI@fsis.usda.gov. All written comments must arrive by January 23, 2015. Oral comments are also accepted (see instructions under “Register for the Meeting” above).

Availability of Materials for the Meeting: All written public comments will be compiled into a binder and available for review at the meeting. Duplicate comments from multiple individuals will appear as one comment, with a notation that multiple copies of the comment were received. Please visit: http://www.fsis.usda.gov/wps/portal/fsis/topics/regulations/advisory-committees/nacmpi/nacmpi-meetings to learn more about the agenda for the meeting or reports resulting from this meeting.

Meeting Accommodations: USDA is committed to ensuring that all interested persons are included in our events. If you are a person with a disability and would like to request reasonable accommodations to participate in this meeting, please contact Natasha Williams via Telephone: (202) 690-6531; Fax (202) 690-6519; or Email: Natasha.Williams@fsis.usda.gov. All reasonable accommodation requests are managed on a case by case basis.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.) should contact USDA's TARGET Center at (202)720-2600 (voice and TDD).

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

Done at Washington, DC, on December 19, 2014.
Alfred V. Almanza,
Acting Administrator.

[FR Doc. 2014-30219 Filed 12-23-14; 8:45 am]

BILLING CODE 3410-DM-P